DEPARTMENT OF EDUCATION

[CFDA No: 84.346]

Career Resource Network State Grants; Notice Inviting Applications for New Awards for Fiscal Year (FY) 2000

Notice to Applicants: This notice is a complete application package. Together with the statute authorizing the program and the Education Department General Administrative Regulations (EDGAR), the notice contains all of the information, application forms, and instructions needed to apply for a grant under this program.

Purpose of Program: To promote improved career and education decision-making by individuals.

Eligible Applicants: State entities designated jointly by the Governor and the State Board for Vocational and Technical Education of any of the 50 States, the Virgin Islands, the Commonwealth of Puerto Rico, the District of Columbia, Guam, American Samoa, the Commonwealth of the Northern Mariana Islands, the Republic of the Marshall Islands, the Federated States of Micronesia, and the Republic of Palau are eligible for an award under this process. However, the Marshall Islands, Federated States of Micronesia, and the Republic of Palau are eligible to receive funds only in Fiscal Years 2000 and 2001. A State may designate an entity other than a State agency to perform the grant functions under this program. However, if a designated entity is not a part of the State government, the eligible agency for the State under section 112 of the Carl D. Perkins Vocational and Technical Education Act of 1998 (Perkins III) must apply for the grant. In that event the eligible agency under Perkins III will be the grant recipient and must either directly administer the grant or supervise the administration of the project, as required by 34 CFR 75.701.

Not more than one grant will be awarded to serve the residents of a single State or outlying area in this competition.

To receive funding, each applicant must submit evidence that the designated entity, whether it is part of the State government or another entity that will perform the grant function for the eligible agency under Perkins III, has been designated jointly by the Governor and the State Board for Vocational and Technical Education. In any case, if the designated entity is not a State agency, the eligible agency under Perkins III and the Governor are accountable for the proper expenditure of funds.

Deadline for Transmittal of Applications: June 12, 2000.

Deadline for Intergovernmental Review: June 26, 2000.

Available Funds: $7,650,000 for the first 12 months of the 24-month project period. Funding for the second 12-month period of the 24-month project period is subject to the availability of funds and to a grantee meeting the requirements of 34 CFR 75.253.

Estimated Range of Awards: The actual amount of each award made under this competition will depend on such factors as the scope and quality of the application and will be determined during pre-award clarification discussions with the Department's Office Vocational and Adult Education, Division of Vocational-Technical Education. However, the Department strongly encourages all applicants to consider these factors and the estimated grant amounts provided below, in deciding the amount of funds to request.

The estimated grant amounts were determined by allocating to every State and outlying area a minimum amount that the Department believes is necessary to carry out an effective program and distributing the remaining funds on the basis of each State's or outlying area's respective share of the funds allocated by formula under section 111 of Perkins III. The formula set out in section 111 takes into account State population and per capita income, among other factors. These grant estimates assume that all 59 eligible applicants will submit applications which meet the requirements established by the statute and this notice and are determined by the Department to merit funding, based on the criteria described in this notice.

Eligible applicant | Estimated grant amount
ALABAMA | $135,784
ALASKA | 107,805
ARIZONA | 135,592
ARKANSAS | 121,442
CALIFORNIA | 308,427
COLORADO | 125,341
CONNECTICUT | 115,719
DELAWARE | 107,887
FLORIDA | 192,076
GEORGIA | 155,340
HAWAII | 109,555
IDAHO | 111,645
ILLINOIS | 173,013
INDIANA | 144,210
IOWA | 122,170
KANSAS | 119,933
KENTUCKY | 133,158
LOUISIANA | 139,401
MAINE | 109,555
MARYLAND | 127,940
MASSACHUSETTS | 132,081
MICHIGAN | 167,939
MINNESOTA | 131,603
MISSISSIPPI | 124,948
MISSOURI | 140,010
MONTANA | 109,309
NEBRASKA | 112,836
NEVADA | 110,416
NEW HAMPSHIRE | 109,555
NEW JERSEY | 139,790
NEW MEXICO | 115,237
NEW YORK | 195,114
NORTH CAROLINA | 153,627
NORTH DAKOTA | 107,805
OHIO | 179,969
OKLAHOMA | 128,991
OREGON | 123,549
PENNSYLVANIA | 175,751
RHODE ISLAND | 109,555
SOUTH CAROLINA | 131,604
SOUTH DAKOTA | 107,805
TENNESSEE | 140,160
TEXAS | 251,418
UTAH | 122,369
VERMONT | 107,805
VIRGINIA | 143,609
WASHINGTON | 137,193
WEST VIRGINIA | 115,608
WISCONSIN | 138,598
WYOMING | 107,805
DISTRICT OF COLUMBIA | 107,805
PUERTO RICO | 134,182
AMERICAN SAMOA | 85,732
NORTHERN MARIANAS | 85,732
GUAM | 86,306
VIRGIN ISLANDS | 86,051
MARSHALL ISLANDS | 65,380
MICRONESIA | 65,380
PALAU | 65,380
Total | 7,650,000

Estimated Average Size of Awards: $129,661 for 12 months.

Estimated Number of Awards: 59.

Note: The Department is not bound by any estimates in this notice.

Project Period: 24 months.

Applicable Statute and Regulations: (a) The relevant provisions of the Carl D. Perkins Vocational and Technical Education Act of 1998 (Perkins III), 20 U.S.C.A. 2301 et seq., in particular, section 118(b).

(b) The Education Department General Administrative Regulations (EDGAR) as follows:

(1) 34 CFR Part 75 (Direct Grant Programs).

(2) 34 CFR Part 77 (Definitions that Apply to Department Regulations).

(3) 34 CFR Part 79 (Intergovernmental Review of Department of Education Programs and Activities).

(4) 34 CFR Part 80 (Uniform Administrative Requirements for Grants and Cooperative Agreements to State and Local Governments).

(5) 34 CFR Part 81 (General Education Provisions Act—Enforcement).

(6) 34 CFR Part 82 (New Restrictions on Lobbying).

(7) 34 CFR Part 85 (Government-wide Debarment and Suspension (Nonprocurement) and Government-wide Requirements for Drug-Free Workplace (Grants)).

(8) 34 CFR Part 86 (Drug and Alcohol Abuse Prevention).

(9) 34 CFR Part 97 (Protection of Human Subjects).

(10) 34 CFR Part 98 (Student Rights In Research, Experimental Programs and Testing).

(11) 34 CFR Part 99 (Family Educational Rights and Privacy).

SUPPLEMENTARY INFORMATION:

Background

Supporting the career development of young people and helping them to make informed choices about their educational and career options have become important components of State and local efforts to reform schools and improve student achievement. Understanding the connection between what is taught in the classroom and how that knowledge will be used in a future career can make learning more meaningful to students, increase their motivation to learn, and improve student results. Reform-driven innovations such as charter schools, magnet schools, and career academies, include models that use broad career areas as the context for teaching challenging academic content and technical skills. These and other models incorporate early exposure to career possibilities, and the educational requirements needed to pursue them, as strategies to help students and parents make decisions that best meet each student's individual interests, needs, and aspirations.

Research also indicates that many young people, particularly those from low-income families, do not enroll in postsecondary education because they lack sufficient information about career opportunities and the education and training required for entry into and success in their chosen field. Students who do not develop a career and education plan prior to entering secondary school are less likely to enroll in school courses required for college entry and do not plan adequately for college education financing. Effective career guidance and academic counseling can help ensure that students and their parents set their sights high, plan for, and are prepared for postsecondary education.

While career development is particularly important for young people, individuals of all ages need access to information and guidance on careers. New technologies, heightened global competition, and the information revolution are transforming the nature of work and careers. Individuals can no longer assume that they will work for the same organization, remain within the same industry, or even require the same technical skills during their entire working lives. They must have access to career and educational information so that they may become active in making decisions regarding their occupation. To succeed in our dynamic, rapidly-changing economy, all individuals need up-to-date academic and technical skills, as well as access to career and education information, so that they may become active and effective managers of their own careers.

Growing recognition of the important role that career guidance and academic counseling services play in supporting student success is evidenced by the variety of Federal, State, and local programs which promote and support these services. Several Department of Education programs, including Perkins III State grants, Tech-Prep, GEAR-UP, and TRIO programs, provide funding for career guidance and academic counseling services for students. In addition, the School-to-Work Opportunities Program, jointly-administered by the Department of Education and the Department of Labor, has provided “venture capital” to State and local partnerships, to initiate or expand a wide range of career development activities for young people. Many States, local educational agencies, and institutions of higher education also support career guidance and academic counseling services for students. In addition, with assistance under Title I of the Workforce Investment Act (WIA), States and localities are building One-Stop Career Center systems that offer all individuals information and assistance in obtaining employment, training, and education.

Career Resource Network Grants

Career Resource Network grants provided under section 118 of Perkins III support the implementation of Statewide, systemic strategies for providing young people and adults with these critical career information resources and the skills they need to make effective educational and career decisions throughout their lives.

To achieve this goal, State entities may engage in a variety of activities such as research and innovative product development, professional development activities, development of career information delivery systems, and the development and dissemination of curricula and other learning resources.

Coordination With Related Program Activities

To assist States in improving student performance and outcomes, all programmatic and technical assistance activities need to be coordinated within a continuous improvement framework. The identification of the major strategies that positively impact student performance and integration of those strategies within a State's performance measurement system is critical to achieving results. As a result, the Department has begun to align all of its major grant resources, initiatives, and technical assistance activities, to assist States in their efforts to improve student performance. These include: Efforts to achieve education reform through the development of career pathway models, funding of professional development and training projects, and development of performance measurement systems. The Department views coordination and alignment of the activities required under section 118 to its major initiatives, as critical in supporting States' efforts to improve student performance.

In response to the changing economy and education reform initiatives in States, the Department identified sixteen industry-based career areas. These career areas represent all sectors of the economy and include all occupations front line through professional/technical managers. The career areas as they are defined in Appendix A of this notice provide the basis for creation of career pathway models that can be used for the development of both career and academic guidance tools and resources and curriculum development. The U.S. Secretary of Education recently announced the “Building Linkages” initiative which is designed to help students more effectively develop and realize career goals. The Secretary was joined by the U.S. Secretary of Transportation in unveiling this initiative which uses the Department's 16 career clusters as the basis for career mapping and curriculum development to prepare a student to succeed in a particular field of endeavor. The Department has funded the Building Linkages projects in five of the sixteen career areas to bring together States, in partnership with colleges, universities and employers, to develop curriculum frameworks. The sixteen areas replace the traditional areas once used by vocational education for reporting student enrollment. The new sixteen areas better reflect career opportunities in the new economy and can be aligned to existing career areas identified by States. These sixteen career areas are (See Appendix A for definitions):

(a) Agriculture and Natural Resources

(b) Construction

(c) Manufacturing

(d) Logistics, Transportation And Distribution Services

(e) Information Technology Services

(f) Wholesale/Retail Sales And Service

(g) Financial Services

(h) Hospitality And Tourism

(i) Business And Services

(j) Health Services

(k) Human Services

(l) Arts And Communications Services

(m) Legal And Protective Services

(n) Scientific Research And Technical Services

(o) Education And Training Services

(p) Public Administration/Government Services

Career information products organized by the sixteen career cluster areas are used by career guidance and academic counseling programs, schools, teachers, students and parents to understand and explore broad career pathways within and among these career areas. Career areas provide the structure for converting labor market information into useable career information resources and tools for a variety of users. Organizing education by broad career areas and pathways represents a new direction in education and will require training and technical assistance to teachers, school administrators, and counselors to effectively assist students and parents in using this information.

In addition, Perkins III shares a number of common performance goals with WIA titles I and II, including academic and skill attainment, program completion, and placement and retention in employment and postsecondary education. The Department encourages State entities to align their products and services with performance measurement systems under development by Federal and State education, vocational education, workforce development programs, and labor market information organizations in order to support State and local efforts to meet performance targets in their performance measurement systems.

Since 1976, most States and outlying areas have received grants from the National Occupational Information Coordinating Committee (NOICC) to support interagency State Occupational Information Coordinating Committees (SOICCs) under the Carl D. Perkins Vocational and Applied Technology Education Act of 1990 (P.L. 101-392) and its predecessors. Since 1982, States and outlying areas have also received such grants under the Job Training Partnership Act of 1982 (JTPA) (PL 102-367). Funding for these grants ends on June 30, 2000, with the expiration of JTPA. While some of the activities authorized under section 118 of Perkins III are similar to those which could have been carried out under the SOICC grant program, there are some significant differences which should be noted by applicants.

Unlike the previous SOICC grant program, the development, implementation, and maintenance of occupational information systems and labor market information products are not authorized uses of funds under section 118 of Perkins III. Section 15 of the Wagner-Peyser Act as amended by the Workforce Investment Act (WIA) authorizes States and outlying areas to collect, analyze, and disseminate occupational and labor market information. In contrast, section 118 of Perkins III funds may be used by States and outlying areas for the development and delivery of career counseling and educational guidance resources and services, which utilize the occupational and labor market information.

Further, none of the functions and activities assisted under section 118 may duplicate functions and activities carried out under the WIA or section 15 of the Wagner-Peyser Act. To assist job-seekers as well as employers, the Department of Labor has created America's Career Kit, an array of online information resources on job openings, persons looking for employment and their qualifications, and education and training opportunities. With assistance under Title I of the WIA, States and localities are building One-Stop Career Center systems that offer all individuals information and assistance in obtaining employment, training, and education. Section 15 of the Wagner-Peyser Act also provides States and outlying areas with assistance in collecting, analyzing, and disseminating occupational and labor market information. Section 118 funds may not be used to duplicate any of these or other activities assisted under WIA, but may be used to supplement and enhance them. For example, professional development activities or other resources developed to support academic counseling and career guidance for young people may be made available to youth-serving programs that receive assistance under WIA Title I, provided that they do not duplicate functions or activities that are assisted by WIA. The Secretary encourages applicants to collaborate with State and local recipients of WIA funds in deciding how they will implement the activities required by section 118(b) both to ensure that funds are used most effectively and that the non-duplication requirements of section 118(c)(2) are fulfilled.

Finally, applicants should note that States and outlying areas are not required to establish or maintain interagency State Occupational Information Coordinating Committees in order to receive funds under section 118. Support for these bodies, however, is an eligible use of funds. States and outlying areas may find these bodies to be an effective means of coordinating their section 118 activities with related State and Federal initiatives.

Required Activities

(a) Under this competition, grantees must carry out projects that—

(1) Provide support for a career guidance and academic counseling program designed to promote improved career and education decision-making by individuals, especially in areas of career information delivery and use;

(2) Make available to students, parents, teachers, administrators, and counselors, and to improve accessibility with respect to, information and planning resources that relate educational preparation to career goals and expectations;

(3) Equip teachers, administrators, and counselors with the knowledge and skills needed to assist students and parents with career exploration, educational opportunities, and education financing;

(4) Assist appropriate State entities in tailoring career-related educational resources and training for use by such entities;

(5) Improve coordination and communication among administrators and planners of programs authorized by Perkins III and by section 15 of the Wagner-Peyser Act at Federal, State, and local levels to ensure non-duplication of efforts and the appropriate use of shared information and data; and

(6) Provide ongoing means for customers, such as students and parents, to provide comments and feedback on products and services and to update resources, as appropriate, to better meet customer requirements.

(b) Grants may be used to supplement, but not to duplicate, activities under section 15 of the Wagner-Peyser Act.

(c) Functions and activities assisted under a grant may not duplicate the functions and activities carried out under Public Law 105-220; Workforce Investment Act of 1998.

Priorities

Invitational Priorities

We are particularly interested in applications that meet the following priorities.

Invitational Priority 1. Applications that propose to align products and services to be provided with the sixteen industry-based career areas identified in this notice and required as the reporting framework for the new student enrollment form which is part of the Consolidated Annual Report (CAR) required for basic grants under Perkins III. These career areas are set forth fully in the supplementary information section of this notice and are defined in Appendix A to this notice.

Invitational Priority 2. Applications that propose to develop products and services that assist State and local users to achieve student outcomes established by performance measurement and accountability systems under development by Federal and State education, vocational education, and workforce development programs.

Under 34 CFR 75.105(c)(1), we do not give an application that meets these invitational priorities a competitive or absolute preference over other applications.

Selection Criteria

The Secretary uses the following selection criteria to evaluate applications for new grants under this competition. The Secretary awards a total possible score of 100 points. The maximum possible score for each criterion is indicated in parentheses.

(a) Required Activities. (65 points) The Secretary reviews each application to determine the extent to which it will—

(1) Provide support for a career guidance and academic counseling program designed to promote improved career and education decision-making by individuals, especially in areas of career information delivery and use;

(2) Make availabale to students, parents, teachers, administrators, and counselors, and to improve accessibility with respect to, information and planning resources that relate educational preparation to career goals and expectations;

(3) Equip teachers, administrators, and counselors with the knowledge and skills needed to assist students and parents with career exploration, educational opportunities, and education financing;

(4) Assist appropriate State entities in tailoring career-related educational resources and training for use by such entities;

(5) Improve coordination and communication among administrators and planners of programs authorized by the Act and by section 15 of the Wagner-Peyser Act at Federal, State, and local levels to ensure non-duplication of efforts and the appropriate use of shared information and data; and

(6) Provide ongoing means for customers, such as students and parents to provide comments and feedback on products and services and to update resources, as appropriate, to better meet customer requirments.

(b) Quality of the project design. (10 points)

(1) The Secretary considers the quality of the design of the proposed project.

(2) In determining the quality of the design of the proposed project, the Secretary considers the following factors:

(i) The extent to which the goals, objectives, and outcomes to be achieved by the proposed project are clearly specified and measurable.

(ii) The extent to which the proposed project will be coordinated with similar or related efforts, and with other appropriate community, State, and Federal resources.

(iii) The extent to which performance feedback and continuous improvement are integral to the design of the proposed project.

(c) Adequacy of resources. (5 points)

(1) The Secretary considers the adequacy of resources for the proposed project.

(2) In determining the adequacy of resources for the proposed project, the Secretary considers the following factors:

(i) The extent to which the budget is adequate to support the proposed project.

(ii) The extent to which the costs are reasonable in relation to the objectives, design, and potential significance of the proposed project.

(d) Quality of the management plan. (10 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) How the applicant will ensure that a diversity of perspectives are brought to bear in the operation of the proposed project, including those of parents, teachers, the business community, a variety of disciplinary and professional fields, recipients or beneficiaries of services, or others, as appropriate.

(e) Quality of the project evaluation. (10 points)

(1) The Secretary considers the quality of the evaluation to be conducted of the proposed project.

(2) In determining the quality of the evaluation, the Secretary considers the following factors:

(i) The extent to which the methods of evaluation include the use of objective performance measures that are clearly related to the intended outcomes of the project and will produce quantitative and qualitative data to the extent possible.

(ii) The extent to which the methods of evaluation will provide performance feedback and permit periodic assessment of progress toward achieving intended outcomes.

Intergovernmental Review of Federal Progarms

This program is subject to the requirements of Executive Order 12372 (Intergovernmental Review of Federal Programs) and the regulations in 34 CFR part 79.

One of the objectives of the Executive Order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedures established in each State under the executive order. If you want to know the name and address of any State Single Point of Contact (SPOC), see the list published in the Federal Register on April 28, 1999 (64 FR 22963), or you may view the latest SPOC list on the OMB web site at the following address: http://www.whitehouse.gov/omb/grants.

In States that have not established a process or chosen a program for review, State, area-wide, regional, and local entities, may submit comments directly to the Department.

Any State Process Recommendation and other comments submitted by a State Single Point of Contact and any comments from State, area-wide, regional, and local entities must be mailed or hand-delivered by the date indicated in this notice to the following address: The Secretary, E.O. 12372-CFDA# 84.346, U.S. Department of Education, Room 7E200, Washington, DC 20202-0125.

Proof of mailing will be determined on the same basis as applications (see 34 CFR 75.102). Recommendations or comments may be hand-delivered until 4:30 p.m. (Eastern time) on the date indicated in this notice.

Please note that the above address is not the same address as the one to which the applicant submits its completed application. Do not send applications to the above address.

Instructions for Transmittal of Applications

Applicants are required to submit one original signed application and two copies of the grant application. All forms and assurances must have ink signatures. Please mark applications as “original” or “copy.” To aid with the review of applications, the Department encourages applicants to submit four additional copies of the grant application. The Department will not penalize applicants who do not provide additional copies.

(a) If an applicant wants to apply for a grant under this process, the applicant must either—

(1) Mail the original and two copies of the application on or before the deadline date to: U.S. Department of Education, Application Control Center, Attention: (CFDA# 84.346), Washington, D.C. 20202-4725, or

(2) Hand deliver the original and two copies of the application by 4:30 p.m. (Washington, D.C. time) on or before the deadline date to: U.S. Department of Education, Application Control Center, Attention: (CFDA #84.346), Room #3633, Regional Office Building #3, 7th and D Streets, S.W., Washington, D.C.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494.

(3) The applicant must indicate on the envelope and—if not provided by the Department—in Item 10 of the Application for Federal Education Assistance (ED 424) the CFDA number—and suffix letter, if any—of the process under which the application is being submitted.

Application Instructions and Forms

All forms and instructions are included at the end of this notice. Questions and answers pertaining to this program are included, as Appendix B, to assist potential applicants.

To apply for an award under this program, your application must be organized in the following order and include the following five parts. The parts and additional materials are as follows (See application forms and instructions at the end of this notice):

(1) Application for Federal Education Assistance (ED 424 (Rev. 1/12/99)) and instructions.

(2) Budget Information—Non-Construction Programs (ED Form No. 524) and instructions.

(3) Budget Narrative.

(4) Program Narrative.

(5) Additional Assurances and Certifications:

a. Assurances—Non-Construction Programs (Standard Form 424B).

b. Certification regarding Lobbying, Debarment, Suspension, and Other Responsibility Matters; and Drug-Free Workplace Requirements (ED 80-0013) and instructions.

c. Certification regarding Debarment, Suspension, Ineligibility and Voluntary Exclusion: Lower Tier Covered Transactions (ED Form 80-0014, 9/90) and instructions.

Note: ED Form 80-0014 is intended for the use of grantees and should not be transmitted to the Department.)

d. Disclosure of Lobbying Activities (Standard Form LLL) (if applicable) and instructions. This document has been marked to reflect statutory changes. See the notice published by the Office of Management and Budget at 61 FR 1413 (January 19, 1996).

No grant may be awarded unless a completed application form has been received.

FOR FURTHER INFORMATION CONTACT: Dr. Marcel R. DuVall, Division of Vocational-Technical Education, Office of Vocational and Adult Education, U.S. Department of Education, 400 Maryland Avenue, S.W. (Room 4317, Mary E. Switzer Building), Washington, D.C. 20202-7241. Telephone (202) 260-4982. Individuals who use a telecommunications device for the deaf (TDD) may call the Federal Information Relay Service (FIRS) at 1-800-877-8339 between 8 a.m. and 8 p.m. Eastern time, Monday through Friday. Individuals with disabilities may obtain this notice in an alternate format (e.g., Braille, large print, audiotape, or computer diskette) on request to the contact persons listed at the beginning of this paragraph. Please note, however, that the Department is not able to reproduce in an alternate format the standard forms included in the notice.

Electronic Access to This Department

Anyone may view this document, as well as all other Department of Education documents published in the Federal Register, in text or portable document format (pdf) on the World Wide Web at either of the following sites:

http://ocfo.ed.gov/fedreg.htm

http://www.ed.gov/news.html

To use the pdf you must have the Adobe Acrobat Reader Program with Search, which is available free at either of the preceding sites. If you have questions about using the pdf, call the U.S. Government Printing Office toll free at 1-888-293-6498.

Additionally, this notice, as well as other documents concerning the implementation of the Carl D. Perkins Vocational and Technical Education Act of 1998, is available on the World Wide Web at the following site: http://www.ed.gov/offices/OVAE/VocEd/InfoBoard/legis.html.

Note: The official version of this document is the document published in the Federal Register.

Program Authority: 20 U.S.C. 2328.

Dated: May 9, 2000.
Robert Muller,
Acting Assistant Secretary for Vocational and Adult Education.

Appendix A—Sixteen Career Areas Definitions

(a) Agriculture and Natural Resources, comprised of courses and/or programs related to planning, managing and performing agricultural production and horticulture and landscaping services and related professional and technical services, mining and extraction operations, and managing and conserving natural resources and related environmental services;

(b) Construction, comprised of courses and/or programs relating to designing, planning, managing, building, and maintaining physical structures and the larger building environment including roadways and bridges and industrial, commercial and residential facilities and buildings;

(c) Manufacturing, comprised of courses and/or programs related to planning, managing and performing the processing of materials into intermediate or final products and related professional and technical support activities such as production planning and control, maintenance and manufacturing/process engineering;

(d) Logistics, Transportation and Distribution Services, comprised of courses and/or programs related to planning, management, and movement of people, materials, and goods by road, pipeline, air, rail and water and related professional and technical support services such as transportation infrastructure planning and management, logistics services, mobile equipment and facility maintenance;

(e) Information Technology Services, comprised of courses and/or programs related to designing, developing, managing and operating communication and information technology networks and related hardware and software for the recording, storage, transformation, transmission and distribution of voice, video, images, and data including both telecommunications and computing services;

(f) Wholesale/Retail Sales and Services, comprised of courses and/or programs related to planning, managing and performing wholesaling and retailing services and related marketing and distribution support services including merchandise/product management and promotion;

(g) Financial Services, comprised of courses and/or programs related to planning, managing and providing banking, investment, financial planning, and insurance services;

(h) Hospitality and Tourism, comprised of courses and/or programs related to hospitality and tourism and to planning, managing and providing lodging, food, recreation, convention and tourism, and related planning and support services such as travel-related services;

(i) Business and Services, comprised of courses and/or programs related to planning, managing, and providing administrative support, information processing, accounting, and human resource management services and related management support services;

(j) Health Services, comprised of courses and/or programs related to planning, managing, and providing diagnostic, therapeutic, and information and environmental services in health care; exhibiting, performing, writing, and publishing multimedia content, including visual and performing arts and design, journalism, and entertainment services;

(k) Human Services, comprised of courses and/or programs related to planning, managing, and providing human services including social and related community services;

(l) Arts And Communications Services, comprised of courses and/or programs related to designing, producing, exhibiting, performing, writing, and publishing multimedia content, including visual and performing arts and design, journalism, and entertainment services;

(m) Legal And Protective Services, comprised of courses and/or programs related to planning, managing and providing judicial, legal, and protective services, including professional and technical support services in the fire protection and criminal justice systems;

(n) Scientific Research And Technical Services, comprised of courses and/or programs related to planning, managing, and providing scientific research and professional and technical services (e.g., physical science, social science, engineering), including laboratory and testing services, and research and development services;

(o) Education And Training Services, comprised of courses and/or programs related to planning, managing and providing education and training services, and related learning support services, including assessment and library and information services; and

(p) Public Administration/Government Services, comprised of courses and/or programs related to planning, managing and providing government, legislative, administrative and regulatory services and related general purpose government services at the Federal, State and local levels.

Appendix B—Questions and Answers

Potential applicants frequently direct questions to officials of the Department regarding application notices and programmatic and administrative regulations governing various direct grant programs. To assist potential applicants, the Department has assembled the following most commonly asked questions followed by the Department's answers.

Q. Can we get an extension of the deadline?

A. No. A closing date may be changed only under extraordinary circumstances. Any change must be announced in the Federal Register and must apply to all applications. Waivers for individual applications cannot be granted regardless of the circumstances.

Q. How many copies of the application should I submit and must they be bound?

A. Applicants are required to submit one original and two copies of the grant application. To aid with the review of applications, the Department encourages applicants to submit four additional copies of the grant application. The Department will not penalize applicants who do not provide additional copies. Sending applications in notebooks, binders, folders, or other coverings is strongly discouraged.

Q. We just missed the deadline for the XXX competition. May we submit under another competition?

A. Yes, however, the likelihood of success is not good. A properly prepared application must meet the specifications of the competition to which it is submitted.

Q. I'm not sure which competition is most appropriate for my project. What should I do?

A. We are happy to discuss any such questions with you and provide clarification on the unique elements of the various competitions.

Q. Will you help us prepare our application?

A. We are happy to provide general program information. Clearly, it would not be appropriate for staff to participate in the actual writing of an application, but we can respond to specific questions about application requirements, evaluation criteria, and the priorities. Applicants should understand, however, that prior contact with the Department is not required, nor will it in any way influence the success of an application.

Q. When will I find out if I'm going to be funded?

A. You can expect to receive notification as soon as possible after the application closing date, depending on the number of applications received and the number of Department competitions with similar closing dates.

Q. Once my application has been reviewed by the review panel, can you tell me the outcome?

A. No. Every year we are called by a number of applicants who have a legitimate reason for needing to know the outcome of the panel review prior to official notification. Some applicants need to make job decisions, some need to notify a local school district, etc. Regardless of the reason, because final funding decisions have not been made at that point, we cannot share information about the results of panel review with anyone.

Q. Will my application be returned if I am not funded?

A. No. We no longer return unsuccessful applications. Thus, applicants should retain at least one copy of the application.

Q. Can I obtain copies of reviewers' comments?

A. Upon written request, reviewers' comments will be mailed to unsuccessful applicants.

Q. Is travel allowed under these projects?

A. Travel associated with carrying out the project is allowed. Because we may request the project director of funded projects to attend an annual project directors' meeting, you may also wish to include a trip or two to Washington, DC in the travel budget. Travel to conferences is sometimes allowed when the purpose of the conference will be of benefit and relates to the project.

Q. If my application receives high scores from the reviewers, does that mean that I will receive funding?

A. Not necessarily. It is often the case that the number of applications scored highly by the reviewers exceeds the dollars available for funding projects under a particular competition. The order of selection, which is based on the scores of all the applications reviewed and other relevant factors, determines the applications that can be funded.

Q. What happens during pre-award clarification discussions?

A. During pre-award clarification discussions, technical and budget issues may be raised. These are issues that have been identified during the panel and staff reviews that require clarification. Sometimes issues are stated as “conditions.” These are issues that have been identified as so critical that the award cannot be made unless those conditions are met. Questions may also be raised about the proposed budget. Generally, these issues are raised because an application contains inadequate justification or explanation of a particular budget item, or because the budget item seems unimportant to the successful completion of the project. If you are asked to make changes that you feel could seriously affect the project's success, you may provide reasons for not making the changes or provide alternative suggestions. Similarly, if proposed budget reductions will, in your opinion, seriously affect the project activities, you may explain why and provide additional justification for the proposed expenses. An award cannot be made until all issues under discussion have been resolved.

Q. How do I provide an assurance?

A. Except for SF-424B, “Assurances—Non-Construction Programs,” you may provide an assurance simply by stating in writing that you are meeting a prescribed requirement.

Q. Where can copies of the Federal Register, program regulations, and Federal statutes be obtained?

A. Copies of these materials can usually be found at your local library. If not, they can be obtained from the Government Printing Office by writing to Superintendent of Documents, U.S. Government Printing Office, Washington, DC 20402. Telephone: (202) 708-8228. When requesting copies of regulations or statutes, it is helpful to use the specific name or public law, number of a statute, or part number of a regulation. The material referenced in this notice should be referred to as follows:

(a) The Carl D. Perkins Vocational Technical Education Act of 1998 (Pub. L. 105-332) may be obtained (1) from the Government Printing Office by writing to Superintendent of Documents, P.O. Box 371954, Pittsburgh, PA 15250-7954 or telephoning (202) 512-1800, or (2) online from the Library of Congress at Http://thomas.loc.gov.

(b) A copy of the Code of Federal Regulations that contains the Education Department General Administrative Regulations, 34 CFR parts 74, 75, 77, 79, 80, 81, 82, 85, 86, 97, 98, and 99, may be obtained from the Government Printing Office Government Printing Office by writing to Superintendent of Documents, P.O. Box 371954, Pittsburgh, PA 15250-7954 or telephoning (202) 512-1800, or (2) on the internet at: http://www.access.gpo.gov/su_docs or http://www.access.gpo.gov/nara/cfr.

(c) Federal Register notices can also be accessed on the internet at: http://www.access.gpo.gov/nara/index.html.

Estimated Burden Statement

According to the Paperwork Reduction Act of 1995, no persons are required to respond to a collection of information unless it displays a valid OMB control number. The valid OMB control number for this information collection is 1830-0541. (Expiration date: 05/31/2003). The time required to complete this information collection is estimated to average 36 hours per response, including the time to review instructions, search existing data resources, gather the data needed, and complete and review the information collection.

If you have any comments concerning the accuracy of the time estimate(s) or suggestions for improving this grant application, please write to: U.S. Department of Education, Washington, D.C. 20202-4651.

If you have comments or concerns regarding the status of your individual submission of this grant application, write directly to: Dr. Marcel R. DuVall, Division of Vocational and Technical Education, Office of Vocational and Adult Education, U.S. Department of Education, 400 Maryland Avenue, S.W. (Room 4325, Mary E. Switzer Building), Washington D.C. 20202-7242.

Instructions for Budget Information

Sections A and B—Budget Summary by Categories

1. Personnel: Show salaries to be paid to personnel for each budget year.

2. Fringe Benefits: Indicate the rate and amount of fringe benefits for each budget year.

3. Travel: Indicate the amount requested for both local and out of State travel of Project Staff for each budget year. Include funds for at least two trips per year for two people to attend the Project Directors' Workshop.

4. Equipment: Indicate the cost of non-expendable personal property that has a cost of $5,000 or more per unit for each budget year.

5. Supplies: Include the cost of consumable supplies and materials to be used during the project period for each budget year.

6. Contractual: Show the amount to be used for: (1) procurement contracts (except those which belong on other lines such as supplies and equipment); and (2) subcontracts for each budget year.

7. Construction: Not Applicable.

8. Other: Indicate all direct costs not clearly covered by lines 1 through 6 above, including consultants and capital expenditures for each budget year.

9. Total Direct Cost: Show the total for Lines 1 through 8 for each budget year.

10. Indirect Costs: Indicate the rate and amount of indirect costs for each budget year.

11. Training/stipend Cost: Not applicable. This item pertains only to student and institutional allowances.

12. Total Costs: Show total for lines 9 through 11 for each budget year.

Instructions for Budget Narrative

The budget narrative should explain, justify, and, if needed, clarify your budget summary. For each line item (personnel, fringe benefits, travel, etc.) in your budget, explain why it is there and how you computed the costs.

Please limit this section to no more than five pages. Be sure that each page of your application is numbered consecutively.

Instructions for Program Narrative

The program narrative will comprise the largest portion of your application. This part is where you spell out the who, what, when, why, and how, of your proposed project.

Although you will not have a form to fill out for your narrative, there is a format. This format is based on the selection criteria. Because your application will be reviewed and rated by a review panel on the basis of the selection criteria, your narrative should follow the order and format of the criteria.

Before preparing your application, you should carefully read the legislation and EDGAR regulations governing this program, eligibility requirements, priorities, and the selection criteria for this process.

Your program narrative should be clear, concise, and to the point. Begin the narrative with a one page abstract or summary of your project. Then describe the project in detail, addressing each selection criterion in order.

The Secretary strongly suggests that you limit the program narrative to no more than 30 double-spaced, typed pages (on one side only), although the Secretary will consider your application if it is longer. Be sure to number consecutively ALL pages in your application.

You may include supporting documentation as appendices to the program narrative. Be sure that this material is concise and pertinent to this program.

You are advised that—

(a) The Secretary considers only information contained in the application in ranking applications for funding consideration. Letters of support sent separately from the formal application package are not considered in the review by the technical review panels. (34 CFR 75.217)

(b) The technical review panel evaluates each application solely on the basis of the selection criteria contained in this notice.

(c) Letters of support included as appendices to an application, that are of direct relevance to or contain commitments that pertain to the established selection criteria, such as commitment of resources, will be reviewed by the panel. As noted above in paragraph (a), letters of support sent separately from the formal application package are not considered in the review by the technical review panel. (34 CFR 75.217)

Performance Measures

The Government Performance and Results Act of 1993 (GPRA) places new management expectations and requirements on Federal departments and agencies by creating a framework for more effective planning, budgeting, program evaluation, and fiscal accountability for Federal programs. The intent of GPRA is to improve public confidence by holding departments and agencies accountable for achieving program results. Under GPRA, Departments and agencies must clearly describe the goals and objectives of their programs.

As required by GPRA, the Department of Education has prepared a strategic plan for 1998-2002. This plan reflects the Department's priorities and integrates them with its mission and program authorities and describes how the Department will work to improve education for all children and adults in the United States.

standards so that they are prepared for responsible citizenship, further learning, and productive employment. Among the objectives for Goal 1 is that schools help all students make successful transitions to college and careers.

Factors that may be considered in evaluating the success of the program may include:

(1) Number of people trained by the career resource grant recipient;

(2) Improved and expanded use of career development products and services; and

(3) Number of students who had access to career development products and services.

An evaluation plan must be included in each Career Resource Network grant. The application should describe the plan in detail including the following information: (1) What types of data will be collected; (2) what instruments will be used; (3) when reports of results and outcomes will become available; and (4) how information will be used by the project to monitor progress and to provide accountability information to stakeholders.

BILLING CODE 4000-01-U

[FR Doc. 00-11992 Filed 5-11-00; 8:45 am]

BILLING CODE 4000-01-C